DEPARTMENT OF DEFENSE

Office of the Secretary

Proposed Collection; Comment Request

AGENCY: Office of the Under Secretary of Defense (Personnel & Readiness).

ACTION: Notice.

In compliance with section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by September 9, 2002.

ADDRESSES: Written comments and recommendations on the proposed information collection should be sent to the Office of the Under Secretary of Defense (Personnel and Readiness), (Force Management Policy/Military Personnel Policy/Compensation), ATTN: Lt Col Bob Rennicker, 4000 Defense Pentagon, Washington, DC 20301-4000.

FOR FURTHER INFORMATION CONTACT: To request more information on this proposed information collection or to obtain a copy of the proposal and associated collection information, please write to the above address or call 703-697-3793.

Title, Associated Form, and OMB Control Number: Validation of Public or Community Service Employment Performed by Retired Personnel Retired Under the Temporary Early Retirement Authority (TERA) for Increased Retirement Compensation, DD Form 2676, OMB Number 0704-0357.

Needs and Uses: This information collection requirement is necessary to validate the public service or community service of military members who retired under the Temporary Early Retirement Authority. The Military Services and the Coast Guard had the authority until December 31, 2001, to permit early retirement for selected Service personnel with more than 15, but less than 20 years of service. All of these members who retired under Section 4403(a) before the completion of at least 20 years of active duty service may take employment in public or community service, making them eligible for increased early retirement compensation. A retiree may receive service credit for all qualifying periods of employment by a registered public or community service organization during the “enhanced requirement qualification period.” This qualification period begins on the date of retirement and ends on the date the retired member would have attained 20 years of creditable service for retirement purposes. This information collection is needed to provide certification of a member's full-time public and/or community service employment by a registered public or community service organization and to recompute the member's retired pay for all qualifying periods of employment.

Affected Public: Individuals; business or other for-profit institutions; and not-for-profit institutions.

Annual Burden Hours: 126.

Number of Respondents: 756.

Responses per Respondents: 1.

Average Burden per Response: 10 minutes.

Frequency: Annually.

SUPPLEMENTARY INFORMATION:

Summary of Information Collection

This information collection is used by all Service personnel retiring early who are potentially eligible for increased retirement compensation from employment with public or community service organizations and employers who are registered public or community service organizations.

During retirement processing conducted by the Services, personnel were advised of the certification process for public or community service employment within the enhanced retirement qualification period. When public or community service employment is found with a registered employing organization, the DD Form 2676, “Validation of Public or Community Service Employment.” is completed by both the retiree and the employer. Employers certify full-time, paid employment (full-time employment is defined by the organization concerned, but is typically at least 33 hours per week or 143 hours per month, including paid holidays and paid periods of leave or vacation). The retired personnel then complete their portion of the form and mail the validation form to the Defense Manpower and Data Center (DMDC) for review and processing in a data base designed for this program. To continue to receive credit, retired personnel employed in public or community service organizations submit the completed certified forms to DMDC annually on the anniversary of their retirement date. After the information is processed, DMDC will send retired personnel a statement of their certification account. At the end of the enhanced qualification period, retired personnel submit final completed certified forms to DMDC. Once final validation has been completed, the DMDC will transmit the data to either the Defense Finance and Accounting Service (DFAS) or the Coast Guard Finance Center for update of final pay information files. The forms will be maintained by the DMDC for a period of 5 years after the last day of the enhanced retirement qualification period. When retired personnel reach age 62, the Finance Centers will recomputed retirement benefits, adding whatever public or community service employment was validated during the enhanced retirement qualification period.

Dated: July 3, 2002.
Patricia L. Toppings,
Alternate OSD Federal Register Liaison Officer, Department of Defense.

[FR Doc. 02-17260 Filed 7-9-02; 8:45 am]

BILLING CODE 5001-08-M